DEPARTMENT OF LABOR

Employment and Training Administration

[TA-W-51,037]

Jabil Global Services, Inc., Tampa, FL; Notice of Negative Determination Regarding Application for Reconsideration

By application of April 24, 2003, a company official requested administrative reconsideration of the Department's negative determination regarding eligibility for workers and former workers of the subject firm to apply for Trade Adjustment Assistance (TAA). The denial notice applicable to workers of Jabil Global Services, Inc., Tampa, Florida was signed on March 26, 2003, and published in the Federal Register on April 7, 2003 (68 FR 16834).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Jabil Global Services, Inc., Tampa, Florida engaged in computer refurbishment (i.e., repair, rebuild, and overhaul) services. The petition was denied because the petitioning workers did not produce an article within the meaning of section 222(3) of the Act.

The petitioners allege that repair and rebuilding performed by the subject firm workers constitutes production because the warranty that covered this repair was part of the “new buy price” of computers initially produced by the firm that the subject firm performs contract work for.

Repair and refurbishment of products already purchased does not constitute production within the context of eligibility requirements for trade adjustment assistance.

The company official seemed to imply that the subject firm provided “value added services” to computer parts through upgrades to circuitry to address specific design problems “that were related to the original design problems.”

A clarifying call to the company official confirmed that upgrades on these computer and/or components were covered by a warranty and thus do not concern products that are for sale.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 18th day of June, 2003.
Elliott S. Kushner
Certifying Officer, Division of Trade Adjustment Assistance.

[FR Doc. 03-16891 Filed 7-3-03; 8:45 am]

BILLING CODE 4510-30-P